U.S.-CHINA ECONOMIC AND SECURITY REVIEW COMMISSION

Notice of Open Public Hearing

AGENCY: U.S.-China Economic and Security Review Commission.

ACTION: Notice of open public hearing—May 23-25, 2007, Washington, DC.

SUMMARY: Notice is hereby given of the following hearing of the U.S.-China Economic and Security Review Commission.

Name: Carolyn Bartholomew, Chairman of the U.S.-China Economic and Security Review Commission.

The Commission is mandated by Congress to investigate, assess, evaluate and report to Congress annually on “the national security implications and impact of the bilateral trade and economic relationship between the United States and the People's Republic of China.” Pursuant to this mandate, the Commission will hold a public hearing in Washington, DC on May 23-25, 2007 to address “The Extent of the Government's Control of China's Economy, and Implications for the United States.”

Background

This event is the third in a series of public hearings the Commission will hold during its 2007 report cycle to collect input from leading experts in academic, business, industry, government and the public on the impact of the economic and national security implications of the U.S. bilateral trade and economic relationship with China. The May 23-25 hearing is being conducted to obtain commentary about the Chinese government's control of key industries, the effect on the United States and the world economy, and whether such control violates the principles of the WTO.

The May 23-25 hearing will address “The Extent of the Government's Control of China's Economy, and Implications for the United States,” and will be co-chaired by Commissioners Jeffrey Fiedler, Kerri Houston and Michael R. Wessel.

Information on this hearing, including a detailed hearing agenda and information about panelists, will be made available on the Commission's Web site closer to the hearing date. Detailed information about the Commission, the texts of its annual reports and hearing records, and the products of research it has commissioned can be found on the Commission's Web site at http://www.uscc.gov.

Any interested party may file a written statement by May 23, 2007, by mailing to the contact below.

DATE AND TIME: Wednesday, May 23, 2007, 3 p.m. to 5 p.m. Eastern Daylight Savings Time; Thursday, May 24, 2007, 8:30 a.m. to 5 p.m.; and Friday, May 25, 2007, 8:30 a.m. to 12:30 p.m.

ADDRESSES: The hearing will be held on Capitol Hill in three days, where Commissioners will take testimony from invited witnesses. The specific locations are as follows:

May 23, 2007—Room 385, Russell Senate Office Building, located at Delaware & Constitution Avenues, NE., Washington, DC 20510.

May 24, 2007—Room 562, Dirksen Senate Office Building located at First Street and Constitution Avenue, NE., Washington, DC 20510.

May 25, 2007—Room 385, Russell Senate Office Building, located at Delaware & Constitution Avenues, NE., Washington, DC 20510.

Public seating is limited to approximately 50 people on a first come, first served basis. Advance reservations are not required.

FOR FURTHER INFORMATION CONTACT: Any member of the public wishing further information concerning the hearing should contact Kathy Michels, Associate Director for the U.S.-China Economic and Security Review Commission, 444 North Capitol Street, NW., Suite 602, Washington, DC 20001; phone: 202-624-1409, or via e-mail at kmichels@uscc.gov.

Authority: Congress created the U.S.-China Economic and Security Review Commission in 2000 in the National Defense Authorization Act (Pub. L. 106-398), as amended by Division P of the Consolidated Appropriations Resolution, 2003 (Pub. L. 108-7), as amended by Public Law 109-108 (November 22, 2005).

Dated: May 7, 2007.
Kathleen J. Michels,
Associate Director, U.S.-China Economic and Security Review Commission.

[FR Doc. E7-9020 Filed 5-9-07; 8:45 am]

BILLING CODE 1137-00-P